INTERNATIONAL TRADE COMMISSION

[Investigation No. 337-TA-1087]

Certain Batteries and Electrochemical Devices Containing Composite Separators, Components Thereof, and Products Containing Same Commission Determination Not To Review an Initial Determination (Order No. 7) Granting a Motion To Amend the Complaint and Notice of Investigation

AGENCY: U.S. International Trade Commission.

ACTION: Notice.

SUMMARY: Notice is hereby given that the U.S. International Trade Commission (the “Commission”) has determined not to review a January 8, 2018, initial determination (Order No. 7) (the “ID”) granting an unopposed motion to amend the complaint and notice of investigation.

FOR FURTHER INFORMATION CONTACT: Ron Traud, Office of the General Counsel, U.S. International Trade Commission, 500 E Street SW, Washington, DC 20436, telephone (202) 205-3427. Copies of non-confidential documents filed in connection with this investigation are or will be available for inspection during official business hours (8:45 a.m. to 5:15 p.m.) in the Office of the Secretary, U.S. International Trade Commission, 500 E Street SW, Washington, DC 20436, telephone 202-205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal at 202-205-1810.

SUPPLEMENTARY INFORMATION: On November 28, 2017, the Commission instituted this investigation under section 337 of the Tariff Act of 1930, as amended, 19 U.S.C. 1337 (“section 337”), based on a complaint filed by LG Chem, Ltd. of South Korea; LG Chem Michigan Inc. of Holland Michigan; LG Chem Power Inc. of Troy, Michigan; and Toray Industries, Inc. of Japan. (collectively, “LG”). 82 FR 56265, 56265-66 (Nov. 28, 2017). The complaint alleges a violation of section 337 by reason of infringement of certain claims of U.S. Patent Nos. 7,662,517; 7,638,241; and 7,709,152. The complaint named as respondents Amperex Technology Limited of Hong Kong; DJI Technology Co., Ltd.; DJI Technology, Inc. of Burbank, CA; Guangdong OPPO Mobile, Telecommunications Corp., Ltd. of China; and OPPO Digital, Inc. of Menlo Park, CA. The Office of Unfair Import Investigations is not a party in this investigation.

On January 3, 2018, LG filed an unopposed motion seeking leave to amend the complaint and notice of investigation in this matter to correct the name of respondent DJI Technology Co., Ltd. to SZ DJI Technology Co., Ltd. On January 8, 2018, the administrative law judge issued Order No. 7, the ID, which grants the motion, finding that the motion complies with Commission Rule 210.14(b). No party filed a petition seeking review of the ID.

The Commission has determined not to review the ID.

The authority for the Commission's determination is contained in section 337 of the Tariff Act of 1930, as amended (19 U.S.C. 1337), and in part 210 of the Commission's Rules of Practice and Procedure (19 CFR part 210).

By order of the Commission.
Issued: January 26, 2018.
Lisa R. Barton,
Secretary to the Commission.

[FR Doc. 2018-01873 Filed 1-30-18; 8:45 am]

BILLING CODE 7020-02-P